DEPARTMENT OF DEFENSE

Office of the Secretary

[Docket ID DOD-2018-HA-0038]

Proposed Collection; Comment Request

AGENCY: Office of the Assistant Secretary of Defense for Health Agency, DoD.

ACTION: Information collection notice.

SUMMARY: In compliance with the Paperwork Reduction Act of 1995, the Defense Health Agency announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 27, 2018.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24 Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Defense Health Agency, TRICARE Health Plan, Policy and Benefits, 8111 Gatehouse Road, Falls Church, VA, 22042, Ms. Vonda Lawson or call (703) 275-6221.

SUPPLEMENTARY INFORMATION:

Title; Associated Form; and OMB Number: TriCare DoD/CHAMPUS Medical Claim Patient's Request for Medical Payment; DD-2642; OMB Control Number 0720-0006.

Needs and Uses: The DD-2642, “TRICARE DoD/CHAMPUS Medical Claim Patient's Request for Medical Payment” form is used by TRICARE beneficiaries to claim reimbursement for medical expenses under the TRICARE Program (formerly the Civilian Health and Medical Program of the Uniformed Services (CHAMPUS)). The information collected will be used by TRICARE to determine beneficiary eligibility, other health insurance liability, certification that the beneficiary has the received care, and reimbursement for medical services received.

Affected Public: Individuals or Households.

Annual Burden Hours: 207,500.

Number of Respondents: 830,000.

Responses per Respondent: 1.

Annual Responses: 830,000.

Average Burden per Response: 15 minutes.

Frequency: On occasion.

The respondents to this information collection are TRICARE beneficiaries which include active duty service members, retirees, family members, and others. The DD-2642 is used by beneficiaries to file for reimbursement of out-of-pocket costs paid to providers and suppliers for authorized health care services or supplies. The information collected by the DD-2642 also aids TRICARE in determining beneficiary eligibility, health insurance liability and to certify the beneficiary has received the medical care as indicated. Respondents may obtain the DD-2642 by various methods. The DD-2642 may be completed online via the TRICARE website, tricare.mil. Additionally, respondents may print the form from the TRICARE website or the Department of Defense forms web page, www.esd.whs.mil/Directives/forms/ and complete the DD-2642 by hand. Respondents may also call their designated regional contractor who can direct respondents on how to obtain the DD-2642. Respondents can identify their regional contractor through the TRICARE website. Respondents residing overseas may visit their local military treatment facility Tricare Service Center to request a copy of the DD-2642. Respondents may complete the DD-2642 online and submit it immediately, or in some cases, choose to mail their completed DD-2642 to their regional contractor. The regional contractor then enters the information into the TRICARE Record Encounter Data System.

Dated: June 21, 2018.
Shelly E. Finke,
Alternate OSD Federal Register, Liaison Officer, Department of Defense.

[FR Doc. 2018-13712 Filed 6-25-18; 8:45 am]

BILLING CODE 5001-06-P